FEDERAL COMMUNICATIONS COMMISSION

47 CFR Part 26

[ET Docket No. 13-115; DA 24-1232; RIN 3060-AL44; FRS 268468]

Wireless Telecommunications Bureau Seeks Comment on Licensing and Coordination Procedures for the Space Launch Service

AGENCY: Federal Communications Commission.

ACTION: Notification.

SUMMARY: In this Public Notice, the Wireless Telecommunications Bureau (Bureau) makes proposals and seeks comment on issues related to the Federal Communications Commission's (Commission) Space Launch Service. In particular, it proposes licensing and frequency coordination procedures and data requirements for Space Launch Service licensees seeking Commission authorization to perform non-Federal space launch operations in the 2025-2110 MHz, 2200-2290 MHz, and 2360-2395 MHz bands. Filers responding to this Public Notice should submit comments in ET Docket No. 13-115.

DATES: Interested parties may file comments on or before January 22, 2025.

ADDRESSES: You may submit comments, identified by ET Docket No. 13-115, by any of the following methods:

• Comments may be filed using the Commission's Electronic Comment Filing System (ECFS).

• Electronic Filers: Comments may be filed electronically using the internet by accessing ECFS: https://www.fcc.gov/ecfs/.

• Paper Filers: Parties who choose to file by paper must file an original and one copy of each filing.

○ Filings can be sent by hand or messenger delivery, by commercial overnight courier, or by First-Class or overnight U.S. Postal Service mail. All filings must be addressed to the Commission's Secretary, Office of the Secretary, Federal Communications Commission.

○ All hand-delivered or messenger-delivered paper filings for the Commission's Secretary are accepted between 8 a.m. and 4 p.m. at 9050 Junction Drive, Annapolis Junction, MD 20701. All hand deliveries must be held together with rubber bands or fasteners. Any envelopes and boxes must be disposed of before entering the building.

○ Commercial overnight deliveries (other than U.S. Postal Service Express Mail and Priority Mail) must be sent to 9050 Junction Drive, Annapolis Junction, MD 20701.

U.S. Postal Service First-Class, Express, and Priority mail must be addressed to Secretary, Federal Communications Commission, 45 L St. NE, Washington, DC 20554.

FOR FURTHER INFORMATION CONTACT: Mark DeSantis, Wireless Telecommunications Bureau, Mobility Division, (202) 418-0678 or mark.desantis@fcc.gov. For information regarding the PRA information collection requirements, contact Cathy Williams, Office of Managing Director, at 202-418-2918 or Cathy.Williams@fcc.gov.

SUPPLEMENTARY INFORMATION: This is a summary of the WTB Public Notice, ET Docket No. 13-115; DA 24-1232, released on December 6, 2024. The released, formatted version of this document is available at https://docs.fcc.gov/public/attachments/DA-24-1232A1.pdf. Text and Microsoft Word formats are also available (replace “.pdf” in the link with “.txt” or “.docx”, respectively. Alternative formats are available for people with disabilities (braille, large print, electronic files, audio format), by sending an email to fcc504@fcc.gov or call the Commission's Consumer and Governmental Affairs Bureau at (202) 418-0530 (voice), (202) 418-0432 (TTY).

Providing Accountability Through Transparency Act

Consistent with the Providing Accountability Through Transparency Act, Public Law 118-9, a summary of this Public Notice will be available on https://www.fcc.gov/proposed-rulemakings.

Ex Parte Rules

The proceeding this document initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made; and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Supplemental Initial Regulatory Flexibility Analysis

The Regulatory Flexibility Act of 1980, as amended (RFA), requires that an agency prepare a regulatory flexibility analysis for notice and comment rulemakings, unless the agency certifies that the rule will not, if promulgated, have a significant economic impact on a substantial number of small entities.” If an agency files a certification with a rulemaking, the certification must contain a statement that provides a factual basis for its conclusion that there will not be significant economic impact on a substantial number of small entities. Accordingly, the Commission has prepared an Initial Regulatory Flexibility Certification (IRFC) certifying that any rules subject to the RFA that may be contained in this Public Notice will not have a significant economic impact on a substantial number of small entities.

Paperwork Reduction Act Analysis

This Public Notice may contain proposed modified information collection requirements. The Commission, as part of its continuing effort to reduce paperwork burdens, invites the general public and the Office of Management and Budget to comment on the information collection requirements contained in this Public Notice, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Synopsis

By this Public Notice, as directed by the Commission in the Second Report and Order in this proceeding (89 FR 63296-01, August 5, 2024), the Wireless Telecommunications Bureau (Bureau) proposes and seeks comment on certain licensing and coordination procedures for the new commercial Space Launch Service. As detailed below, these include: the technical data to be provided to the Commission for purposes of registering launch sites, corresponding stations, and coordinated launches under a non-exclusive, nationwide space launch license; and the required procedures and data submissions for space launch operators to coordinate each individual launch with both Federal and non-Federal users via a third-party frequency coordinator to be selected at a later date. The Bureau issues this Public Notice at this time as part of an effort to meet the statutorily mandated deadlines set forth in the Launch Communications Act.

I. Background

In the Second Report and Order, the Commission adopted a secondary allocation in the 2025-2110 MHz band for non-Federal Space Operation and, with respect to the 2200-2290 MHz band, lifted a prior restriction limiting such operations to four sub-bands, thus making the entire band available on a secondary basis for non-Federal Space Operation. These allocations are subject to various conditions, including being limited to pre-launch testing and space launch operations. The Commission also adopted a licensing framework for these two bands under a new part 26 Space Launch Service. Through that framework, eligible space launch operators seeking authorization in either band will: (1) apply for and obtain a non-exclusive nationwide license via the Commission's Universal Licensing System (ULS); (2) register in ULS their launch sites and operational parameters, space launch vehicle stations, and each corresponding station (fixed, base, itinerant, or mobile) needed to support a launch; (3) complete a frequency coordination process using a third-party frequency coordinator; and (4) following successful coordination, register in ULS the technical and operating parameters associated with each specific coordinated launch prior to commencing operations.

The Launch Communications Act. Following the Commission's adoption of the Second Report and Order, Congress enacted the Launch Communications Act (LCA) on September 26, 2024. The LCA requires Commission action with respect to three frequency bands: the 2025-2110 MHz and 2200-2290 MHz bands that were the subject of the Second Report and Order, and the 2360-2395 MHz band, upon which the Commission sought comment in the Second Further Notice (89 FR 6488-01, February 1, 2024). The LCA first requires the Commission, within 90 days of the LCA's enactment, to allocate each of these bands on a secondary basis for commercial space launches and reentries and to complete any proceeding in effect related to the adoption of service rules for these three bands. The Commission also must issue, within 180 days of the LCA's enactment, new regulations to streamline the process for granting authorizations for access to these three bands. These new regulations must provide for, among other things: (1) authorizations that include multiple uses of the frequencies for multiple launches and reentries from one or more private and Federal launch and reentry sites; (2) electronic filing and processing of applications for access to such frequencies for commercial space launches and reentries; and (3) improved coordination with the National Telecommunications and Information Administration (NTIA) to increase the speed of review of applications for authorizations to access frequencies for space launch and reentry through increased automation similar to an approach currently used for the 70/80/90 GHz bands.

In the Second Report and Order, the Commission delegated authority to the Bureau to issue a public notice proposing and seeking comment on issues related to the licensing framework for the Space Launch Service to refine the application process and accommodate frequency coordination, including required information for license registrations and frequency coordination requests. Accordingly, below we propose application and frequency coordination procedures for the Space Launch Service, which at present includes the 2025-2110 and 2200-2290 MHz bands, two of the three frequency bands identified in the LCA. Given the LCA's requirement, however, that the Commission “complete a proceeding in effect” within 90 days of enactment, the Bureau anticipates that the Commission would benefit from development of a record that includes the issues included in this Public Notice. We therefore propose in this Public Notice procedures that would apply not only to the 2025-2110 MHz and 2200-2290 MHz bands, but also to the 2360-2395 MHz band, to the extent the Commission reallocates the 2360-2395 MHz band on a secondary basis for Space Operation and incorporates it into the part 26 space launch licensing framework. This proposed approach is intended to increase administrative efficiency and provide regulatory certainty for Space Launch Service applicants and licensees regarding statutorily required implementation of the LCA for space launch and re-entry operations. We clarify that the proposals in this Public Notice, and any final action taken through subsequent Bureau public notice(s) following review of the record, are subject to Commission action taken pursuant to the LCA's requirements, including any additional Commission delegation of authority to the Bureau to clarify and establish procedures regarding the 2360-2395 MHz band.

II. Licensing Process

A. Application for Nationwide License

In the Second Report and Order, the Commission adopted rules requiring a space launch provider seeking authorization to first file an application in ULS for a nationwide, non-exclusive license. The Commission determined that eligible space launch operators interested in obtaining a nationwide, non-exclusive license can do so on the condition that they will cooperate with and avoid harmful interference to co-frequency entities and complete coordination efforts to avoid in-band interference. Applicant qualification for these non-exclusive nationwide licenses will be assessed in accordance with FCC Form 601 and the Commission's rules. The grant of a nationwide license will serve as a prerequisite for a licensee to register launch sites and individual stations in ULS.

For purposes of applying for this nationwide license, the Commission determined that a space launch operator would only need to provide administrative information using FCC Form 601. An applicant for a nationwide, non-exclusive license is required to use ULS to file FCC Form 601 electronically. Detailed instructions for submitting license applications in ULS will be announced in a subsequent public notice.

B. Launch Site and Station Registrations

Once a space launch operator has obtained a nationwide, non-exclusive license, the next step towards authorizing a particular launch is for the licensee, prior to seeking frequency coordination, to electronically register launch sites and individual fixed, base, itinerant, and mobile stations associated with a specific launch in ULS. We propose that launch vehicles will be registered as mobile stations, but with additional technical details required beyond those required for terrestrial mobile stations, as outlined below. We seek comment below on the appropriate data to be required for each launch and station site in an initial station registration.

1. Data for Initial Registration

Pursuant to the Bureau's delegated authority to seek comment on and refine the application process, we propose and seek comment on the specific data to be collected as part of initial registration of launch sites and individual stations. The Bureau proposes that a licensee would include the following data:

1. Launch site details:

a. Launch site name and launch designation (if applicable);

b. Geographic coordinates referenced to NAD83 (i.e., lat/long);

c. Address; and

d. Whether the site is an FAA-licensed commercial site or Federal site;

2. Itinerant and mobile station details:

a. Description of station, including its overall purpose within the proposed launch operation and specific function (e.g., transmit/receive, command/telemetry);

b. Radius of operation and geographic coordinates of the transmit location referenced to NAD83;

c. Antenna details:

i. Frequency band;

ii. Output power/Effective Isotropic Radiated Power (EIRP);

iii. Type of antenna (e.g., directional);

iv. Width of beam in degrees at the half-power point;

v. Frequency tolerance;

vi. Emission designator;

vii. Emission bandwidth and justification for greater than 5 megahertz bandwidth, if applicable;

viii. Digital modulation rate and type; and

ix. Antenna gain;

3. Launch vehicles as mobile stations:

a. Name of launch vehicle;

b. Geographic coordinates of the launch site referenced to NAD83;

c. Location of transmitter on launch vehicle or payload (e.g., first stage, second stage); and

d. Antenna details:

i. Frequency band;

ii. Output power/EIRP;

iii. Type of antenna (e.g., blade, parabolic);

iv. Width of beam in degrees at the half-power point;

v. Frequency tolerance;

vi. Emission designator;

vii. Emission bandwidth and justification for greater than 5 megahertz bandwidth, if applicable;

viii. Digital modulation rate and type; and

ix. Antenna gain;

4. Fixed and base station details:

a. Description of station, including its overall purpose within the proposed launch operation and specific function (e.g., transmit/receive, command/telemetry);

b. Antenna azimuth (if the antenna is tracking, state “tracking”);

c. Antenna elevation angle (if the antenna is tracking, state “tracking”);

d. Height above ground level to the highest point of the supporting structure only;

e. Overall height above ground to tip of antenna in meters;

f. Elevation of ground at antenna site above mean sea level in meters;

g. Support structure type;

h. Geographic coordinates of the transmit location referenced to NAD83 (i.e. lat/long); and

i. Antenna details:

i. Frequency band;

ii. Output power/EIRP;

iii. Type of antenna (e.g., directional);

iv. Width of beam in degrees at the half-power point;

v. Frequency tolerance;

vi. Emission designator;

vii. Emission bandwidth and justification for greater than 5 megahertz bandwidth, if applicable; and

viii. Digital modulation rate and type; and

ix. Antenna gain;

j. Address.

We seek comment on the above proposed data requirements for an initial registration. Should additional information be required as part of the launch site and station location registration process?

2. Requests for Bandwidth in Excess of 5 Megahertz

In the Second Report and Order, the Commission afforded a space launch licensee the flexibility to choose its own bandwidth, up to 5 megahertz. However, a licensee may exceed the 5 megahertz bandwidth where it can demonstrate, on a case-by-case basis, why a larger bandwidth is necessary for the specific telemetry, tracking, and control space launch operation, including an explanation of why the licensee's requirements cannot be satisfied using a bandwidth of 5 megahertz or less. As required in the Second Report and Order, a licensee seeking to operate in excess of 5 megahertz bandwidth must submit its justification as part of the initial registration in ULS for a specific launch. We remind licensees that the Commission stated it would not routinely grant such requests and noted that, given the heavy usage of these bands, it may be difficult to successfully coordinate operations involving requests for bandwidth greater than 5 megahertz.

C. Frequency Coordination

In the Second Report and Order, the Commission adopted a post-license grant coordination regime to be facilitated by a third-party space launch frequency coordinator. The Commission delegated authority to the Bureau to develop procedures that the space launch frequency coordinator will use to ensure compliance with the coordination requirements for space launch operations. As noted, the LCA also requires the Commission to improve coordination with NTIA within 180 days of enactment, including coordination to increase automation similar to the automation described in our service rules for the 70/80/90 GHz service, which we address herein and in a companion Public Notice released today regarding selection of a space launch frequency coordinator whose duties would include receiving all coordination requests and interfacing with an automated system to be developed by NTIA.

1. Data Requirements for Frequency Coordination Requests

In delegating authority to the Bureau to specify data collection requirements for the coordination process and to seek stakeholder input on the required data, the Commission stated that it anticipated that a licensee would identify: (1) the specific coordinates of fixed, base, and itinerant stations (e.g., latitude and longitude); (2) frequency channels; (3) launch trajectories; (4) launch window or planned launch date; and (5) any other technical and operational information (e.g., antenna characteristics, power levels, emission designators) needed by a third-party frequency coordinator to submit the frequency coordination request to the relevant non-Federal and Federal entities. The Commission noted that other information could include coordinates and operational parameters of each station (fixed, base, itinerant or mobile) needed to support a launch, including whether the sites are Federal or FAA-licensed commercial spaceports or non-Federal launch sites. The Second Report and Order specified that this data would be used by the space launch frequency coordinator to coordinate with NTIA regarding protection of Federal operations, as well as local frequency coordinators to protect non-Federal operations in the 2025-2110 MHz band.

The 2360-2395 MHz band is used primarily for aeronautical mobile telemetry and telecommand operations for aircraft and missile flight testing. The LCA requires the Commission to allocate this band on a secondary basis for space launch operations and to complete any proceeding in effect and adopt service rules and coordination procedures. Given the requirements of the LCA, to the extent the Commission reallocates the 2360-2395 MHz band on a secondary basis for Space Operation and incorporates it into the part 26 space launch licensing framework, frequency coordination of non-Federal space launch operations will be necessary to protect primary flight test users. Under current part 87 rules, the frequency advisory committee is required to coordinate all requests concerning flight test frequencies with applicable Federal government area frequency coordinators (AFCs) and to consider all non-Federal stations operating within 320 kilometers (200 miles) of the proposed area of operation. Further, the part 87 frequency advisory committee requires, at a minimum, the following data for coordination requests concerning flight test frequencies: launch location; reentry landing zone (where applicable); date(s), time(s), and duration(s) of launch and reentry window(s); trajectory (azimuth, heading) of the launch and, where applicable, expected reentry coordinates and the landing trajectory (from the reentry point) of reusable launch vehicles and boosters; maximum heights above ground level and above sea level for both launch and reentry activity; requested frequencies used for launch and reentry; maximum power and EIRP; and operational contact information. These data points largely overlap with the data we believe necessary for coordinating Federal operations in the 2025-2110 and 2200-2290 MHz bands, and non-Federal operations in the 2025-2110 MHz band. Accordingly, we propose to incorporate these data points into the below data requirements for space launch frequency coordination requests and seek comment.

We propose to require licensees to provide the following data to the third-party frequency coordinator for coordination requests, much of which will be readily available from the initial post-licensing registration in ULS, as well as additional technical information needed to ensure proper coordination for a specific launch and thereby reduce the potential for harmful interference:

1. Licensee details:

a. Name of licensee;

b. Call sign; and

c. Primary and alternate point of contact for questions (name, title, email, and business phone number);

2. Previously registered launch site where launch will take place and corresponding site details;

3. Previously registered itinerant and mobile stations to be used in the launch and corresponding details;

4. Previously registered fixed and base stations to be used in the launch and corresponding details;

5. Transmitter characteristics for each transmit station (center frequency):

a. Transmitter make/model;

b. Output power;

c. Antenna type (e.g., blade, parabolic);

d. Number of antennas deployed;

e. Antenna gain;

f. Width of beam in degrees at half-power point;

g. Frequency tolerance;

h. Orientation in horizontal/vertical planes (if the antenna is tracking state “tracking');

i. Antenna polarization;

j. EIRP (per individual antenna);

k. Total EIRP (from all radiating sources using a specific location); and

l. Emission designator.

6. Emission details for each designator of each transmitter:

a. Emission bandwidth;

b. Modulating signal:

i. Modulation type (e.g., BPSK, QPSK, APK, FSK, Analog);

ii. if it is a digital signal, the final symbol rate in symbols/second after all overhead encoding or the final bit rate in bits/second after all overhead encoding;

iii. if FSK, include the type of FSK and the peak-to-peak frequency deviation as well as the final symbol rate or final bit rate; and

iv. indicate whether the signal has subcarriers and, if so, which ones are used;

c. RF fundamental emission data (two-sided) including a minimum of −3 dB, −20 dB, and −60 dB bandwidth data points; and

d. Description of any signal filtering techniques employed;

e. If bandwidth exceeds 5 megahertz, an explanation of why the requested bandwidth is necessary for specific space launch operations, including an explanation of why the applicant's operations cannot be satisfied using a bandwidth of 5 megahertz or less;

7. Additional launch site technical information:

a. Elevation of ground at antenna site above mean sea level in meters;

b. Overall height above ground to tip of antenna in meters;

c. Distance to nearest aircraft landing area in kilometers; and

d. Natural formations or existing man-made structures (hills, trees, water tanks, towers, etc.) which would tend to shield the antenna from aircraft.

8. Launch details:

a. Name of launch vehicle;

b. Launch mission name and/or designator number;

c. Launch and reentry date/time window (primary and backup), including launch window open time, and the duration of each window;

d. List of objects to achieve orbit during launch operation;

e. Total elapsed time from launch to end of transmission;

f. Requested frequencies used for launch and reentry, including required center frequency(ies);

g. Orbital location (orbit insertion);

h. Mean launch azimuth (degrees, clockwise from the North);

i. Ground track from lift-off until end of transmission;

j. ECF Cartesian Vectors Format (position and velocity vs. time or position, velocity, and acceleration vs. time) in one minute time steps (at least) for each phase of launch through the end of transmission;

k. A plot image of the two-dimensional ground track of the launch vehicle including demarcations for important mission events (e.g., main engine cut-off (MECO), stage separation, payload jettison, passivation);

l. Duration of transmission(s), to include on/off time (nominal and maximum durations) for each transmitter and receiving station(s) corresponding to the on/off times;

m. Reentry landing zone;

n. If applicable, expected reentry coordinates and the landing trajectory (from the reentry point) of reusable launch vehicles and boosters;

o. Maximum heights above ground level and above sea level for both launch and reentry activity; and

p. Operational contact information, including name, email address, and telephone number.

9. Additional station details:

a. Name and location of each relay satellite station supporting launch operation;

b. Ground receiver sensitivity and selectivity; and

c. Antenna gain to noise temperature ratio (G/T) for each ground station used for reception of launch vehicle telemetry.

The data requirements proposed above are consistent with those required in the Special Temporary Authority (STA) process currently used to authorize space launch communications and the part 87 frequency advisory committee flight test coordination process. We seek comment on this proposal. Is there additional data that should be required for coordination requests submitted to the third-party frequency coordinator? Is any of the proposed data not necessary for anticipated launches? Do these data requirements provide a third-party space launch frequency coordinator with sufficient information to coordinate launches with the Federal and non-Federal users sharing the 2025-2110 MHz and 2200-2290 MHz bands? Is there additional data that should be required for coordinating space launches with AMT flight test operations in the 2360-2395 MHz band? We also note that detailed instructions for submitting the required information to the space launch frequency coordinator, including format, will be announced in the final Bureau licensing procedures public notice.

2. Coordination Procedures

In the Second Report and Order, the Commission required commercial space launch operators to undertake a two-part process for purposes of frequency coordination: (1) for the 2025-2110 MHz band, a site-specific coordination of the operator's stations and launch parameters with Broadcast Auxiliary Service (BAS) operations; and (2) for both the 2200-2290 and 2025-2110 MHz bands, coordination on a per-launch basis with NTIA. The Commission specified that the coordination process was to be initiated through the space launch frequency coordinator after the licensee first registers its sites and stations in ULS. In addition, given the Commission's required action per the LCA regarding the 2360-2395 MHz band that includes adoption of a secondary allocation for space launch and reentry in this band, we anticipate that coordination will be required with primary Federal and non-Federal AMT operations, through both NTIA and the part 87 frequency advisory committee. We propose that, with respect to requests to conduct a specific launch with a bandwidth greater than 5 megahertz in any of the three bands subject to the LCA, the Space Launch Frequency Coordinator will not be required to coordinate such requests unless the Commission first indicates to the Space Launch Frequency Coordinator that a licensee's justification provided with a registration for a specific launch is complete and provides the fulsome explanation required pursuant to rule § 26.301. We seek comment on this proposal.

a. Non-Federal Coordination in the 2025-2110 MHz Band

As set forth in the Second Report and Order, for non-Federal coordination in the 2025-2110 MHz band, a space launch operator will first register its site and station information and will submit its coordination request to the third-party space launch frequency coordinator. The coordinator will verify that the operator is licensed and that the request is consistent with the Commission's rules. The coordinator will then contact the Society of Broadcast Engineers (SBE) Frequency Coordination Manager and the relevant SBE local market coordinator to initiate coordination for the requested launch site.

Alternatively, the launch operator may provide a showing to the frequency coordinator that: (a) it has previously coordinated its proposed operations with the SBE Frequency Coordination Manager; (b) it has ascertained that its proposal will not constrain, preclude, or interfere with incumbents in the band, including BAS, Cable Television Relay Service (CARS) and Local Television Transmission Service (LTTS) licensees; and (c) it has demonstrated in a technical showing that its proposed operation will not create more than 0.5 dB increase in the noise threshold of a receiver at a fixed or temporary fixed electronic news gathering receive site. The Commission found there is no need to conduct per-launch coordination with non-Federal users in the 2025-2110 MHz band if the launch operator can demonstrate its proposed uplink operations meet this protection criteria.

We propose that the local SBE frequency coordinator receive coordination requests at least 60 days prior to launch to ensure adequate time for coordination, with a response due back to the coordinator 15 days following the local SBE frequency coordinator's receipt of the request. Does this proposed timeframe ensure adequate time for completing non-Federal frequency coordination? Are there any circumstances in which space launch operators would be seeking clearance to conduct a launch less than 60 days in the future? Once the frequency coordinator has completed non-Federal coordination, we propose that the coordinator respond to the licensee in writing with the results of the coordination, including any conditions, restrictions, or other limitations, and seek comment on this proposal.

b. Non-Federal Coordination in the 2360-2395 MHz Band

As noted above, part 87 governs AMT for flight test operations and the part 87 frequency advisory committee is required to coordinate requests for such frequencies and provide recommendations regarding operating parameters, including providing comment on the frequencies requested and the probable interference to flight test stations, and recommending frequencies resulting in the minimum interference. Under part 87 rules, the frequency advisory committee is required to consider all non-Federal stations operating on the frequencies requested or assigned within 320 kilometers (200 miles) of the proposed area of operation and all prior coordinations and assignments on the proposed frequencies. We believe that part 87 procedures provide guidance for the space launch frequency coordinator in ensuring that space launch operations in the 2360-2395 MHz band will not cause harmful interference to incumbent flight test operations. We anticipate that the space launch frequency coordinator, in coordinating with the part 87 frequency advisory committee, will consider stations within the 320 kilometers (200 miles) metric, but we propose that the space launch frequency coordinator have the ability to expand that radius at its discretion if necessary in analyzing interference potential. After considering all such stations and coordinating with the part 87 frequency advisory committee, we propose that the space launch frequency coordinator would then propose necessary changes in technical parameters to minimize the risk of harmful interference to non-Federal flight test stations. To maintain consistency with current flight test coordination procedures, we propose that space launch licensees, following coordination and parameter registration in ULS as described below, provide pre-launch notification to both the space launch frequency coordinator and the part 87 frequency advisory committee 96 hours in advance of the commencement of the registered launch window. We seek comment on this proposal, including whether this timeframe provides sufficient notice to ensure protection against interference for flight test operators. We clarify that this proposed notification requirement is separate from, and in addition to, the Commission rule § 26.202 pre-launch coordination requirement.

c. Federal Coordination

For Federal coordination in the Space Launch Service, coordination is required on a per-launch basis, to be initiated after the launch operator has registered its applicable site and station information in ULS. Once the third-party coordinator verifies that the operator is licensed and that the request is consistent with the Commission's rules, it will initiate coordination with NTIA. To assist NTIA's review, the third-party frequency coordinator may provide a showing that the operational and technical parameters of a proposed launch are consistent with a prior successful coordination and that the space launch licensee continues to comply with any conditions or agreements resulting from such prior coordination, or that its proposed launch is covered by an applicable coordination agreement with co-frequency entities.

The LCA requires the Commission to improve NTIA coordination to increase the speed of review of space launch applications for authorization in the 2025-2110 MHz, 2200-2290 MHz, and 2360-2395 MHz bands, including automation similar to that required in the service rules for the 70/80/90 GHz service. Accordingly, we propose to require the space launch frequency coordinator to complete Federal coordination in all three LCA bands using the automated coordination mechanism to be developed by NTIA. This proposed requirement is reflected in the Bureau's companion Public Notice released today regarding a mechanism and criteria for selecting the space launch frequency coordinator. However, until an automated mechanism becomes available, we propose an interim process for completing Federal coordination. For coordination requests in the 2025-2110 MHz and/or 2200-2290 MHz bands, we propose requiring that the frequency coordinator submit frequency coordination requests at least 60 days prior to launch to the NTIA Office of Spectrum Management's Frequency Assignment Branch. For coordination requests in the 2360-2395 MHz band, we propose that the space launch frequency coordinator submit coordination requests at least 60 days prior to launch to the applicable Area Frequency Coordinator (AFC) listed in Annex D, Table 2 of NTIA's Manual of Regulations and Procedures for Federal Radio Frequency Management. We seek comment on whether the proposed timeframe allows for completion of Federal frequency coordination. We also recognize that some space launch Federal frequency coordination requests might combine 2360-2395 MHz with 2025-2110 MHz and/or 2200-2290 MHz, which could require routing to different destinations. We therefore seek comment on whether, in those instances, Federal coordination requests should be directly submitted to NTIA's Office of Spectrum Management's Frequency Assignment Branch within the same 60-day timeframe. Would such an approach prevent unnecessary delays in Federal coordination and improve administrative efficiencies? What are the costs of such an approach? Further, once the space launch frequency coordinator has completed Federal coordination, we propose that it respond to the licensee in writing with the results of the coordination, including any conditions or limitations. We seek comment on this proposal.

d. Changes To Launch Parameters

In the Second Report and Order, the Commission stated that any changes to the technical and operational parameters for a launch that occur after completion of post-grant frequency coordination also require coordination, and that these changes must be provided to the third-party frequency coordinator to initiate an updated coordination. We seek comment on procedures for licensees that seek to change launch parameters close in time to a scheduled launch date. Should we establish a cut-off date for licensees to change launch parameters that have previously been coordinated? What timeframe is appropriate, given that a cut-off date would need to afford sufficient time for re-coordination of a launch? Should we consider establishing a separate cut-off for changes solely related to the launch date/time, potentially to accommodate weather or technical delays, that seek no changes to technical parameters, and could therefore qualify for an accelerated coordination of the date/time change versus requiring a new coordination request? In the STA process currently used to authorize spectrum for space launches, how frequently have space launch operators needed to adjust launch and technical parameters following coordination of a launch, and how much time has typically been required to re-coordinate those launches? We seek comment on these issues.

D. Post-Frequency Coordination Launch Registrations

In the Second Report and Order, the Commission adopted rules requiring space launch licensees to register the technical and operating parameters of a launch after it has successfully coordinated that launch with NTIA and other non-Federal users through a third-party frequency coordinator. The Commission stated that licensees would not have authorization to commence operations until after completing these post-coordination launch registrations. We propose that, once accepted in ULS, the parameters in the post-coordination launch registration reflect the binding operational parameters for a given launch, and that a licensee will be authorized to commence launch operations thereunder. We also propose that the licensee must update the launch registration in ULS, if already completed, to reflect any re-coordinated parameter changes, and that such an updated registration must be accepted in ULS to be authorized to launch under the revised parameters.

For purposes of the post-coordination launch registration, we propose that licensees provide the following relevant data from their approved coordination requests:

1. Purpose of operation;

2. Operation start date and time;

3. Operation end date and time;

4. Stations to be used;

5. Launch site to be used;

6. Transmission characteristics including frequency, emission designator, output power and EIRP; and

7. Response from the third-party frequency coordinator regarding outcome of coordination, including conditions and limitations, and a list of entities with which it coordinated.

We seek comment generally on this proposal. We note that, in part II.C.1 of this Public Notice, we propose requiring licensees to share their launch trajectory for purposes of frequency coordination. We seek comment on whether we should require the launch trajectory for registration in ULS. Is there any other launch data that should be made publicly available in ULS?

Federal Communications Commission.
Amy Brett,
Chief of Staff, Wireless Telecommunications Bureau.

[FR Doc. 2024-29833 Filed 12-20-24; 8:45 am]

BILLING CODE 6712-01-P